DEPARTMENT OF ENERGY

Federal Energy Regulatory Commission

Combined Notice of Filings

Take notice that the Commission has received the following Natural Gas Pipeline Rate and Refund Report filings:

Filings Instituting Proceedings

Docket Numbers: RP12-1018-000.

Applicants: Wyoming Interstate Company, L.L.C.

Description: Request for Limited Waiver of Tariff Provisions of Wyoming Interstate Company, L.L.C. to allow Permanent Release of Off-System Capacity.

Filed Date: 9/4/12.

Accession Number: 20120904-5059.

Comments Due: 5 p.m. ET 9/17/12.

Docket Numbers: RP12-1030-000.

Applicants: Tennessee Gas Pipeline Company, L.L.C.

Description: Volume No. 2—Northampton Expansion Project-NegRate/NonConform Agreements to be effective 11/1/2012.

Filed Date: 9/11/12.

Accession Number: 20120911-5049.

Comments Due: 5 p.m. ET 9/24/12.

Docket Numbers: RP12-1031-000.

Applicants: Tennessee Gas Pipeline Company, L.L.C.

Description: Northampton Expansion Project “Recourse Rate” to be effective 11/1/2012.

Filed Date: 9/11/12.

Accession Number: 20120911-5050.

Comments Due: 5 p.m. ET 9/24/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 12, 2012.
Nathaniel J. Davis, Sr.,
Deputy Secretary.

[FR Doc. 2012-22946 Filed 9-17-12; 8:45 am]

BILLING CODE 6717-01-P